AGENCY FOR INTERNATIONAL DEVELOPMENT

Notice of Public Information Collections Being Reviewed by the Agency for International Development; Comments Requested

SUMMARY: U.S. Agency for International Development (USAID) is making efforts to reduce the paperwork burden. USAID invites the general public and other Federal agencies to take this opportunity to comment on the following proposed and/or continuing information collections, as required by the Paperwork Reduction Act for 1995. Comments are requested concerning: (a) whether the proposed or continuing collections of information is necessary for the proper performance of the functions of the agency, including whether the information shall have practical utility; (b) the accuracy of the burden estimates; (c) ways to enhance the quality, utility, and clarity of the information collected; and (d) ways to minimize the burden of the collection of information on the respondents, including the use of automated collection techniques or other forms of information technology.

DATES: Send comments on this information collection on or before March 31, 2000.

FOR FURTHER INFORMATION CONTACT: Beverly Johnson, Bureau for Management, Office of Administrative Services, Information and Records Division, U.S. Agency for International Development, Room 2.07-106, RRB, Washington, DC 20523, (202) 712-1365 or via e-mail bjohnson@usaid.gov.

SUPPLEMENTARY INFORMATION:

OMB No: OMB 0412-0552.

Form No.: N/A.

Title: Financial Status Report.

Type of Review: Renewal of Information Collection.

Purpose: USAID wants to require grant and cooperative agreement recipients who work in multiple countries to provide expenditure reports by country. USAID has stated in the “remarks” section of SF-269 and SF-269A, or other applicable approved financial report form that “For assistance programs which cover programs in more than one country, recipients shall specify by country the amount of the total Federal share which was expended for each country * * *” The USAID has sought a class deviation to the statute from the Office of Management and Budget in accordance with the 22 CFR 226.4. The information is being collected so that USAID may report to Congress, the Office of Management and Budget and other requesters per the requirements of the Government Performance and Results Act and the Government Management Reporting Act. Also, the reporting requirements are necessary to assure that USAID funds are expended in accordance with Statutory requirements and USAID policies.

Annual Reporting Burden:

Respondents: 80.

Total annual responses: 320.

Total annual hours requested: 800 hours.

Dated: February 22, 2000.
Joanne Paskar,
Acting Chief, Information and Records Division, Office of Administrative Services, Bureau for Management.

[FR Doc. 00-5109 Filed 3-2-00; 8:45 am]

BILLING CODE 6116-01-M